DEPARTMENT OF HEALTH AND HUMAN SERVICES

National Institutes of Health

Office of the Director, National Institutes of Health; Notice of Meeting

Pursuant to section 10(d) of the Federal Advisory Committee Act, as amended (5 U.S.C. Appendix 2), notice is hereby given of a meeting of the Secretary's Advisory Committee on Xenotransplantation (SACX).

The meeting will be open to the public as indicated below, with attendance limited to space available. Individuals who plan to attend and need special assistance, such as sign language interpretation or other reasonable accommodations, should notify the Contact Person listed below in advance of the meeting.

Name of Committee: Secretary's Advisory Committee on Xenotransplantation.

Date: February 24, 2004.

Open: February 24, 2004; 8 a.m. to 5:30 p.m.

Agenda: The SACX will focus on a variety of issues relating to the science and ethics of xenotransplantation. A significant portion of the meeting will be devoted to discussion of two draft reports by the SACX. These draft reports address the state of the science in xenotransplantation and informed consent issues in xenotransplantation. Additional presentations and discussion will focus on recent advances in xenotransplantation research, including a report of a clinical study of porcine islet xenotransplantation in type 1 diabetic patients.

Place: Holiday Inn Select, 8120 Wisconsin Avenue, Bethesda, MD 20814.

Pre-Registration: The SACX meeting is open to the public; however, seating is limited and pre-registration is encouraged. To register, please contact Capital Consulting Corporation (Terry Fisher) at 301-468-6004, extension 434. Individuals who plan to attend the meeting and who need special assistance or other reasonable accommodations should notify Ms. Fisher prior to the meeting.

Public Comment: Individuals who wish to provide public comment (oral or written) should contact the SACX Executive Director, Dr. Mary Groesch, by telephone at 301-496-0785 or e-mail at groeschm@od.nih.gov.

Contact Person: Mary Groesch, Ph.D., Executive Director, Secretary's Advisory Committee on Xenotransplantation, Office of Science Policy, Rockledge I, Room 750, Bethesda, MD 20892, 301-496-9838.

Information is also available on the Office's home page: http://www4.od.nih.gov/oba/Sacx.htm, where an agenda and any additional information for the meeting will be posted when available.

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)

Dated: December 31, 2003.
Anna Snouffer,
Acting Director, Office of Federal Advisory Committee Policy.

[FR Doc. 04-255 Filed 1-6-04; 8:45 am]

BILLING CODE 4140-01-M